COUNCIL OF THE INSPECTORS GENERAL ON INTEGRITY AND EFFICIENCY

Privacy Act of 1974; System of Records

AGENCY: Council of the Inspectors General on Integrity and Efficiency.

ACTION: Notice of a new system of records.

SUMMARY: The Council of the Inspectors General on Integrity and Efficiency (CIGIE) proposes to establish a system of records that is subject to the Privacy Act of 1974. Specifically, the Freedom of Information Act—Privacy Act System will enable CIGIE to better track and index record access requests and administrative appeals under the Freedom of Information Act (FOIA), as well as access, notification, and amendment requests and administrative appeals under the Privacy Act. CIGIE also proposes to establish routine uses for the proposed system of records. In this notice, CIGIE provides the required information on the system of records and routine uses for such system.

DATES: This action will be effective without further notice on December 6, 2017 unless comments are received that would result in a contrary determination.

ADDRESSES: You may submit comments by any of the following methods:

• Federal eRulemaking Portal: http://www.regulations.gov. Follow the instructions for submitting comments.

• Email: comments@CIGIE.gov.

• Fax: (202) 254-0162.

• Mail: Atticus J. Reaser, General Counsel, Council of the Inspectors General on Integrity and Efficiency, 1717 H Street NW., Suite 825, Washington, DC 20006.

• Hand Delivery/Courier: Atticus J. Reaser, General Counsel, Council of the Inspectors General on Integrity and Efficiency, 1717 H Street NW., Suite 825, Washington, DC 20006.

FOR FURTHER INFORMATION CONTACT: Atticus J. Reaser, General Counsel, CIGIE, (202) 292-2600.

SUPPLEMENTARY INFORMATION: In 2008, Congress established CIGIE as an independent entity within the executive branch in order to address integrity, economy, and effectiveness issues that transcend individual Government agencies; and increase the professionalism and effectiveness of personnel by developing policies, standards, and approaches to aid in the establishment of a well-trained and highly skilled workforce in the offices of the Inspector General. CIGIE's membership is comprised of all Inspectors General whose offices are established under the Inspector General Act of 1978, as amended, 5 U.S.C. app, as well as the Controller of the Office of Federal Financial Management, a designated official of the Federal Bureau of Investigation, the Director of the Office of Government Ethics, the Special Counsel of the Office of Special Counsel, the Deputy Director of the Office of Personnel Management, the Deputy Director for Management of the Office of Management and Budget (OMB), and the Inspectors General of the Office of the Director of National Intelligence, Central Intelligence Agency, Library of Congress, Capitol Police, Government Publishing Office, Government Accountability Office, and the Architect of the Capitol. The Deputy Director for Management of OMB serves as the Executive Chairperson of CIGIE.

The new system of records described in this notice, CIGIE—2—Freedom of Information Act—Privacy Act System, will enable CIGIE to better track and index record access requests and administrative appeals under the FOIA, as well as access, notification, and amendment requests and administrative appeals under the Privacy Act. In accordance with 5 U.S.C. 552a(r), CIGIE has provided a report of this new system of records to OMB and to Congress. The new system of records reads as follows:

SYSTEM NAME AND NUMBER

Freedom of Information Act—Privacy Act System—CIGIE-2.

SECURITY CLASSIFICATION:

None.

SYSTEM LOCATIONS:

The principal location of paper records contained within the system is the headquarters of the Council of the Inspectors General on Integrity and Efficiency (CIGIE), 1717 H Street NW., Suite 825, Washington, DC 20006. Paper records within the system may also be located at CIGIE's Inspector General Criminal Investigator Academy, Federal Law Enforcement Training Center, 384 Marana Circle, Glynco, Georgia 31524. Records maintained in electronic form are principally located in contractor-hosted data centers in the United States. Records within this system may also be located at the offices of entities performing Freedom of Information Act (FOIA), 5 U.S.C. 552, and Privacy Act of 1974 (Privacy Act), 5 U.S.C. 552a, request processing on behalf of CIGIE. Contact the System Manager identified below for additional information.

SYSTEM MANAGER(S):

Executive Director, Council of the Inspectors General on Integrity and Efficiency, 1717 H Street NW., Suite 825, Washington, DC 20006.

AUTHORITY FOR MAINTENANCE OF THE SYSTEM:

Section 11 of the Inspector General Act of 1978, as amended, 5 U.S.C. app (IG Act); 5 U.S.C. 301; 5 U.S.C. 552; 5 U.S.C. 552a; 44 U.S.C. 3101.

PURPOSE(S) OF THE SYSTEM:

To assist CIGIE in carrying out its responsibilities under FOIA and the Privacy Act.

CATEGORIES OF INDIVIDUALS COVERED BY THE SYSTEM:

Individuals who have requested access to information pursuant to FOIA or the Privacy Act; individuals who have made a request to access or correct records pertaining to themselves; persons who, on behalf of another individual, have made a request to access or correct that individual's records; and individuals whose requests and/or records have been referred to CIGIE by other agencies.

CATEGORIES OF RECORDS IN THE SYSTEM:

The system maintains records received, created, or compiled in processing FOIA and Privacy Act requests or appeals, including, but not limited to, correspondence or internal memoranda related to the processing of these requests and documents relevant to administrative appeals and litigation under FOIA and the Privacy Act. Records will also contain such data as the name of requester, address of requester, and subject of request.

RECORD SOURCE CATEGORIES:

Information is derived from the individuals and entities making requests, the records searched in the process of responding to requests, and other agencies referring requests for access to or correction of records.

ROUTINE USES OF RECORDS MAINTAINED IN THE SYSTEM, INCLUDING CATEGORIES OF USERS AND THE PURPOSES OF SUCH USES:

In addition to those disclosures generally permitted under the Privacy Act (5 U.S.C. 552a(b)), the records or information contained in this system of records may specifically be disclosed outside of CIGIE as a routine use pursuant to the Privacy Act (5 U.S.C. 552a(b)(3)) as follows:

A. To a Member of Congress in response to an inquiry from that Member made at the request of the individual. In such cases, however, the Member's right to a record is no greater than that of the individual.

B. If the disclosure of certain records to the Department of Justice (DOJ) is relevant and necessary to litigation and is compatible with the purpose for which the records were collected, CIGIE may disclose those records to the DOJ. CIGIE may make such a disclosure if one of the following parties is involved in the litigation or has an interest in the litigation:

1. CIGIE or any component thereof; or

2. Any employee or former employee of CIGIE in his or her official capacity; or

3. Any employee or former employee of CIGIE in his or her individual capacity when the DOJ has agreed to represent the employee; or

4. The United States, if CIGIE determines that litigation is likely to affect CIGIE or any of its components.

C. If disclosure of certain records to a court, adjudicative body before which CIGIE is authorized to appear, individual or entity designated by CIGIE or otherwise empowered to resolve disputes, counsel or other representative, party, or potential witness is relevant and necessary to litigation and is compatible with the purpose for which the records were collected, CIGIE may disclose those records to the court, adjudicative body, individual or entity, counsel or other representative, party, or potential witness. CIGIE may make such a disclosure if one of the following parties is involved in the litigation or has an interest in the litigation:

1. CIGIE or any component thereof; or

2. Any employee or former employee of CIGIE in his or her official capacity; or

3. Any employee or former employee of CIGIE in his or her individual capacity when the DOJ has agreed to represent the employee; or

4. The United States, if CIGIE determines that litigation is likely to affect CIGIE or any of its components.

D. To the appropriate Federal, state, local, tribal, or foreign agency responsible for investigating, prosecuting, enforcing, or implementing a statute, rule, regulation, or order, if the information is relevant to a violation or potential violation of civil or criminal law or regulation within the jurisdiction of the receiving entity.

E. To officials and employees of any Federal agency to the extent the record contains information that is relevant to that agency's decision concerning the hiring, appointment, or retention of an employee; issuance of a security clearance; execution of a security or suitability investigation; or classification of a job.

F. To the National Archives and Records Administration (NARA) pursuant to records management inspections being conducted under the authority of 44 U.S.C. 2904 and 2906.

G. To contractors, grantees, consultants, volunteers, or other individuals performing or working on a contract, interagency agreement, service, grant, cooperative agreement, job, or other activity for CIGIE and who have a need to access the information in the performance of their duties or activities for CIGIE.

H. To any appropriate Federal, state, or local agency or entity to:

1. Permit a decision as to access, amendment or correction of records to be made in consultation with or by that agency; or

2. Verify the identity of an individual or the accuracy of information submitted by an individual who has requested access to or amendment or correction of records.

I. To NARA, Office of Government Information Services (OGIS), to the extent necessary to fulfill its responsibilities in 5 U.S.C. 552(h), to review administrative agency policies, procedures, and compliance with the FOIA, and to facilitate OGIS's offering of mediation services to resolve disputes between persons making FOIA requests and administrative agencies.

J. To appropriate agencies, entities, and persons when: CIGIE suspects or has confirmed that there has been a breach of the system of records; CIGIE has determined that as a result of the suspected or confirmed breach there is a risk of harm to individuals, CIGIE (including its information systems, programs, and operations), the Federal Government, or national security; and the disclosure made to such agencies, entities, and persons is reasonably necessary to assist in connection with CIGIE's efforts to respond to the suspected or confirmed breach or to prevent, minimize, or remedy such harm.

K. To another Federal agency or Federal entity, when: CIGIE determines that information from this system of records is reasonably necessary to assist the recipient agency or entity in responding to a suspected or confirmed breach; or preventing, minimizing, or remedying the risk of harm to individuals, the recipient agency or entity (including its information systems, programs, and operations), the Federal Government, or national security, resulting from a suspected or confirmed breach.

L. To Federal agencies and independent certified public accounting firms that have a need for the information in order to audit the financial statements of CIGIE.

M. To an organization or an individual in the public or private sector if there is reason to believe the recipient is or could become the target of a particular criminal activity or conspiracy, or to the extent the information is relevant to the protection or life or property.

N. To officials, members, and employees of CIGIE who have need of the information in the performance of their duties.

O. To the Office of Management and Budget for the purpose of obtaining its advice regarding CIGIE obligations under the Privacy Act.

P. To a submitter or subject of a record or information in order to obtain assistance to CIGIE in making a determination as to access or amendment.

Q. To the DOJ Office of Information Policy for the purpose of obtaining its advice regarding CIGIE obligations under the FOIA.

POLICIES AND PRACTICES FOR STORAGE OF RECORDS:

Information in this system is maintained in paper and/or electronic form.

POLICIES AND PRACTICES FOR RETRIEVAL OF RECORDS:

These records are retrieved by the name or other programmatic identifier assigned to the individual on whom they are maintained.

POLICIES AND PRACTICES FOR RETENTION AND DISPOSAL OF RECORDS:

The information is retained and disposed of in accordance with the General Records Schedule or the CIGIE records schedule applicable to the record and/or as otherwise required by the Federal Records Act and implementing regulations. Destruction is by shredding or electronic deletion.

ADMINISTRATIVE, TECHNICAL, AND PHYSICAL SAFEGUARDS:

Paper records are located in locked file storage areas or in specified areas to which only authorized personnel have access. Electronic records are protected from unauthorized access through password identification procedures, limited access, firewalls, and other system-based protection methods.

RECORD ACCESS PROCEDURES:

Individuals seeking notification and access to any record contained in this system of records, or seeking to contest its content, may inquire in writing to the System Manager listed above. CIGIE has published a rule, entitled “Privacy Act Regulations,” to establish its procedures relating to access, maintenance, disclosure, and amendment of records which are in a CIGIE system of records under the Privacy Act, promulgated at 5 CFR part 9801.

CONTESTING RECORDS PROCEDURES:

See “Record Access Procedures” above.

NOTIFICATION PROCEDURES:

See “Record Access Procedures” above.

EXEMPTIONS PROMULGATED FOR THE SYSTEM:

To the extent that copies of exempt records from other systems of records are entered into this system, CIGIE claims the same exemptions for those records that are claimed for the original primary systems of records from which they originated.

Dated: October 23, 2017.
Michael E. Horowitz,
Chairperson of the Council of the Inspectors General on Integrity and Efficiency.

[FR Doc. 2017-24044 Filed 11-3-17; 8:45 am]

BILLING CODE 6820-C9-P